DEPARTMENT OF ENERGY

Federal Energy Regulatory Commission

Combined Notice of Filings

Take notice that the Commission has received the following Natural Gas Pipeline Rate and Refund Report filings:

Filings Instituting Proceedings

Docket Numbers: RP25-97-000.

Applicants: Gas Transmission Northwest LLC.

Description: § 4(d) Rate Filing: GTN—NR Contract 18683 Transfer to be effective 11/1/2024.

Filed Date: 10/29/24.

Accession Number: 20241029-5080.

Comment Date: 5 p.m. ET 11/12/24.

Docket Numbers: RP25-98-000.

Applicants: Tennessee Gas Pipeline Company, L.L.C.

Description: § 4(d) Rate Filing: Negotiated Rate Agreements—Various Shippers Nov 2024 to be effective 11/1/2024.

Filed Date: 10/29/24.

Accession Number: 20241029-5227.

Comment Date: 5 p.m. ET 11/12/24.

Docket Numbers: RP25-99-000.

Applicants: Transcontinental Gas Pipe Line Company, LLC.

Description: § 4(d) Rate Filing: Rate Schedule GSS LSS Tracker Filing Effective 11/1/24 to be effective 11/1/2024.

Filed Date: 10/30/24.

Accession Number: 20241030-5041.

Comment Date: 5 p.m. ET 11/12/24.

Docket Numbers: RP25-100-000.

Applicants: Millennium Pipeline Company, LLC.

Description: § 4(d) Rate Filing: Negotiated Rate Amendment No. 151487-5—Coterra to be effective 11/1/2024.

Filed Date: 10/30/24.

Accession Number: 20241030-5047.

Comment Date: 5 p.m. ET 11/12/24.

Docket Numbers: RP25-101-000.

Applicants: Southern Star Central Gas Pipeline, Inc.

Description: Compliance filing: Annual Operational Flow Order Report 2024 to be effective N/A.

Filed Date: 10/30/24.

Accession Number: 20241030-5077.

Comment Date: 5 p.m. ET 11/12/24.

Docket Numbers: RP25-102-000.

Applicants: El Paso Natural Gas Company, L.L.C.

Description: § 4(d) Rate Filing: Negotiated Rate Agreement Update (EOG 610720 Nov 24) to be effective 11/1/2024.

Filed Date: 10/30/24.

Accession Number: 20241030-5078.

Comment Date: 5 p.m. ET 11/12/24.

Docket Numbers: RP25-103-000.

Applicants: Sierrita Gas Pipeline LLC.

Description: § 4(d) Rate Filing: 2024 Oct Quarterly FL&U Filing to be effective 12/1/2024.

Filed Date: 10/30/24.

Accession Number: 20241030-5084.

Comment Date: 5 p.m. ET 11/12/24.

Docket Numbers: RP25-104-000.

Applicants: El Paso Natural Gas Company, L.L.C.

Description: § 4(d) Rate Filing: Negotiated Rate Agreements Update (Sempra Nov 2024) to be effective 11/1/2024.

Filed Date: 10/30/24.

Accession Number: 20241030-5102.

Comment Date: 5 p.m. ET 11/12/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 30, 2024.
Debbie-Anne A. Reese,
Secretary.

[FR Doc. 2024-26047 Filed 11-7-24; 8:45 am]

BILLING CODE 6717-01-P